Proclamation 10343 of February 28, 2022

Irish-American Heritage Month, 2022

By the President of the United States of America

A Proclamation

For centuries, Irish Americans have played a crucial role in helping define the soul of our Nation, and today, nearly 1 in 10 Americans proudly trace their roots back to the Emerald Isle. With hope and faith in their hearts, the first immigrants from Ireland crossed the Atlantic in search of liberty and opportunity. It was the dream of a better life that brought my ancestors—the Blewitts of County Mayo and the Finnegans of County Louth—and countless other Irish immigrants.

Like so many Irish American families, my grandparents carried the spirit and memory of Ireland in their hearts—a pride and passion they instilled in their home in Scranton, Pennsylvania. Through the journeys of their own mothers and fathers and in the lessons they passed on to my mother, Catherine Eugenia Finnegan Biden, they joined Irish Americans in every corner of America in helping to write the next chapter of the American story.

The story of Irish Americans has always been one of strength and perseverance through adversity. Many Irish immigrants arrived on America's shores to escape the Great Famine, only to face discrimination, prejudice, and poverty. Despite these hard times, they embraced their new homes in every corner of America—from the Atlantic to the Pacific, across the Midwest and through the Rocky Mountains—and helped build and fortify our Nation into what it is today.

Irish Americans expanded the American middle class, building ladders of opportunity that future generations could climb. They became teachers, firefighters, police officers, labor leaders, farmers, business owners, and more. Along the way, Irish Americans contributed enormously to the American labor movement—championing safe working conditions, advocating for children's rights, and fighting racism, prejudice, and income inequality. They bravely answered the call to serve, defending our Union and its values in every battle. They continue to work on behalf of the American people as public servants—serving in the Congress, the Supreme Court, Federal agencies, the White House, and in State and local offices across the country. Irish Americans have enriched our culture and nourished our hearts and souls through the arts and humanities, earning recognition as Nobel and Pulitzer prize-winning poets and authors, award-winning musicians, storytellers, and dancers, and critically acclaimed actors. They have blessed our Nation with their indomitable spirit, faith, and love for family that has been passed down through the generations. This sense of community, hospitality, resilience, and passion are integral pieces of America's cultural tapestry.

The United States and Ireland are deeply and forever intertwined: linked in memory and imagination—in joy, sorrow, and resilience—by our common love and common dreams. We share, in every heart, an unrelenting optimism—a flicker of hope that guides us through even the darkest of nights.

As we celebrate Irish-American Heritage Month, let us honor the journey and contributions of Irish Americans who helped shape this land of opportunity and define what it means to be American. Let us reaffirm the legacy of friendship and strong family ties between the United States of America and Ireland—united by our common purpose, by our histories, and by our futures.

NOW, THEREFORE, I, JOSEPH R. BIDEN JR., President of the United States of America, by virtue of the authority vested in me by the Constitution and the laws of the United States, do hereby proclaim March 2022 as Irish-American Heritage Month. I call upon all Americans to celebrate the achievements and contributions of Irish Americans to our Nation with appropriate ceremonies, activities, and programs.

IN WITNESS WHEREOF, I have hereunto set my hand this twenty-eighth day of February, in the year of our Lord two thousand twenty-two, and of the Independence of the United States of America the two hundred and forty-sixth.

[FR Doc. 2022-04611

Filed 3-2-22; 8:45 am]

Billing code 3395-F2-P